ENVIRONMENTAL PROTECTION AGENCY

[ER-FRL-6640-4]

Notice of Availability

RESPONSIBLE AGENCY: Office of Federal Activities, General Information (202) 564-7167 or http://www.epa.gov/compliance/nepa/.

Weekly receipt of Environmental Impact Statements

Filed May 12, 2003, through May 16, 2003,

Pursuant to 40 CFR 1506.9.

EIS No. 030207, DRAFT SUPPLEMENT, AFS, CA, WA, OR, Northern Spotted Owl Management Plans, To Remove or Modify the Survey and Manage Mitigation Measure Standards and Guidelines, in the Final SEIS (1994) and Final SEIS (2000) for Amendments, Northwest Forest Plan, WA, CA and OR, Comment Period Ends: August 8, 2003, Contact: Jerry Hubbard (503) 326-2354. The U.S. Department of Agriculture, Forest Service and the U.S. Department of the Interior, Bureau of Land Management are Joint Lead Agencies on the above project. This document is available on the Internet at: http://web.ead.anl.gov/surveyandmanage.

EIS No. 030225, DRAFT EIS, AFS, ID, Big Bend Ridge Vegetation Management Project and Timber Sale, To Provide Forest Products on a Sustained Yield Basis, Caribou-Targhee National Forest, Ashton/Island Park Ranger District, Fremont County, ID, Comment Period Ends: July 7, 2003, Contact: Melissa Jenkins (208) 624-3251.

EIS No. 030226, FINAL EIS, NPS, AZ, UT, Glen Canyon National Area, Personal Watercraft Rule-Making, Implementation, Lake Powell, Coconino County, AZ and Garfield, Kane, San Juan and Wayne Counties, UT, Wait Period Ends: June 23, 2003, Contact: Kitty L. Roberts (928) 608-6272.

EIS No. 030227, DRAFT EIS, DOA, HI, Lahaina Watershed Flood Control Project, To Reduce Flooding and Erosion Problems, U.S. Army COE Section 404 and NPDES Permits, County of Maui, HI, Comment Period Ends: July 7, 2003, Contact: Lawrence Yamamoto (808) 541-2600 Ext 100.

EIS No. 030228, FINAL EIS, AFS, MO, Pineknot Woodland Restoration Project, Open Shortleaf Pine Woodland Restoration, Implementation, Doniphan/Eleven Point Ranger District, Mark Twain National Forest, Carter County, MO, Wait Period Ends: June 23, 2003, Contact: Jerry Bird (573) 996-2153.

EIS No. 030229, DRAFT EIS, AFS, WI, Sunken Moose Project, Proposal to Restore and/or Maintain the Red and White Pine Communities, Washurn Ranger District, Chequamegon-Nicolet Forest, Bayfield County, WI, Comment Period Ends: July 7, 2003, Contact: Ray Kiewit, (715) 373-2667 Ext. 235.

EIS No. 030230, FINAL EIS, FHW, IL, Milan Beltway Extension (FAU 5822), Airport Road to Blackhawk Road/John Deere Expressway, Funding and Permits Issuance, Rock River, Rock Island County, IL, Wait Period Ends: June 23, 2003, Contact: Norman R. Stoner (217) 492-4640.

EIS No. 030231, FINAL EIS, BLM, NV, Nevada Test and Training Range Resource Management Plan, (formerly known as the Nellis Air Force Range (NAFR)), Implementation, Clark, Nye and Lincoln Counties, NV, Wait Period Ends: June 23, 2003, Contact: Jeffery G. Steinments (702) 515-5097.

EIS No. 030232, FINAL EIS, AFS, MN, Holmes/Chipmunk Timber Sale Project, Implementation, Superior National Forest, LaCroix Ranger District, Saint Louis County, MN, Wait Period Ends: June 23, 2003, Contact: John Galazer (218) 666-0039.

EIS No. 030233, DRAFT EIS, FHW, PA, Woodhaven Road Project, To Relieve Congestion on Byberry Road between the Roosevelt Boulevard and Huntingdon Pike, Philadelphia, Bucks and Montgomery Counties, PA, Comment Period Ends: July 11, 2003, Contact: James A Cheatham (717) 221-3461.

EIS No. 030234, FINAL EIS, FHW, UT, Reference Post (RP) 13 Interchange and City Road Project, Construction of New Interchange at RP 13 between I-15 and City Road in Washington City, Funding, Washington County, UT, Wait Period Ends: June 23, 2003, Contact: Sandra Garcia (801) 963-0182.

EIS No. 030235, DRAFT EIS, NIH, MT, Rocky Mountain Laboratories (RML) Integrated Research Facility, Construction and Operation, To Improve the Nation's Ability to Study and Combat Emerging Infectious Disease and to Protect Public Health, Hamilton, Ravalli County, MT, Comment Period Ends: July 21, 2003, Contact: Valerie Nottingham (301) 496-3537.

EIS No. 030236, FINAL EIS, AFS, CA, Stream Fire Restoration Project, Implementation, Plumas National Forest, Mt. Hough Ranger District, Plumas County, CA, Wait Period Ends: June 23, 2003, Contact: Rich Bednarke (530) 283-7641.

EIS No. 030237, FINAL EIS, FHW, WA, Vancouver Rail Project, Rail Improvements at the Burlington Northern and Santa Fe Rail Yard and Possible Elimination of the West 39th Street At-Grade Crossing, Funding, NPDES Permit Issuance, Clark County, WA, Wait Period Ends: June 23, 2003, Contact: Daniel Mathis (360) 753-9413. This document is available on the Internet at: http://www.wsdot.wa.gov/projects/vancouver eis.

EIS No. 030238, DRAFT EIS, DOA, OR, Northeast Oregon Hatchery Program, Grande Ronde—Imnaha Spring Chinook Hatchery Project, To Modify and Modernize two Existing Hatchery Facilities and Construct three Auxiliary Hatchery Facilities, Wallowa County, OR, Comment Period Ends: July 7, 2003, Contact: Mickey Carter (503) 230-5885. This document is available on the Internet at: http://www.bpa.gov.

EIS No. 030239, DRAFT EIS, DOA, TN, Cane Creek Watershed Remedial Plan, Widening and Degradation of the Cane Creek Channel, Lauderdale County, TN, Comment Period Ends: July 7, 2003, Contact: James W. Ford (615) 277-2531.

EIS No. 030240, FINAL EIS, NOA, Northeast Skate Complex Fishery Management Plan, Implementation of Management Measures, Magnuson-Stevens Fishery Conservation and Management Act, New England Fishery Management Council, Wait Period Ends: June 23, 2003, Contact: Michael Pentony (978) 281-9283.

Amended Notices

EIS No. 030054, DRAFT SUPPLEMENT, BLM, WY, Jack Morrow Hills Coordinated Activity Plan/Draft Green River Resource Management Plan Amendment, Updated Information, Rock Springs, Portions of Sweetwater, Fremont and Subelette Counties, WY, Comment Period Ends: May 23, 2003, Contact: Joe Patti (307) 775-6101.

Revision of Federal Register notice published on 2/21/2003: CEQ Comment Period Ending on 5/15/2003 has been corrected to 5/23/2003.

Dated: May 20, 2003.
Joseph C. Montgomery,
Director, NEPA Compliance Division, Office of Federal Activities.

[FR Doc. 03-13011 Filed 5-22-03; 8:45 am]

BILLING CODE 6560-50-P